DEPARTMENT OF JUSTICE

Drug Enforcement Administration

[Docket No. DEA-921]

Bulk Manufacturer of Controlled Substances Application: Nanosyn Inc.

AGENCY: Drug Enforcement Administration, Justice.

ACTION: Notice of application.

SUMMARY: Nanosyn Inc. has applied to be registered as a bulk manufacturer of basic class(es) of controlled substance(s). Refer to Supplemental Information listed below for further drug information.

DATES: Registered bulk manufacturers of the affected basic class(es), and applicants therefore, may file written comments on or objections to the issuance of the proposed registration on or before January 3, 2022. Such persons may also file a written request for a hearing on the application on or before January 3, 2022.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on September 23, 2021, Nanosyn Inc., 3331 Industrial Drive, Suite B, Santa Rosa, California 95403-2062, applied to be registered as a bulk manufacturer of the following basic class(es) of controlled substance(s):

Controlled substance | Drug code | Schedule
Oxymorphone | 9652 | II
Fentanyl | 9801 | II

The company is a contract manufacturer. At the request of the company's customers, it manufactures derivatives of the above controlled substances in bulk form. No other activities for these drug codes are authorized for this registration.

Brian S. Besser,
Acting Assistant Administrator.

[FR Doc. 2021-23982 Filed 11-2-21; 8:45 am]

BILLING CODE P